ENVIRONMENTAL PROTECTION AGENCY

[FRL-9734-1]

Clean Air Act Operating Permit Program; Petition for Objection to State Operating Permit for Cheyenne Light, Fuel & Power, Wygen II Power Plant

AGENCY: Environmental Protection Agency (EPA).

ACTION: Notice of final action.

SUMMARY: This document announces that the EPA Administrator has responded to a citizen petition asking EPA to object to an operating permit issued by the Wyoming Department of Environmental Quality (WDEQ). Specifically, the Administrator has denied the August 4, 2011, Petition (Petition), submitted under title V of the Clean Air Act (Act) by WildEarth Guardians (Petitioner), to object to WDEQ's June 7, 2011 Permit (Permit) issued to Cheyenne Light, Fuel & Power (CLF&P) for their Wygen II power plant (Wygen II).

Pursuant to sections 307(b) and 505(b)(2) of the Act, a petition for judicial review of those portions of the Order that deny issues in the Petition may be filed in the United States Court of Appeals for the appropriate circuit within 60 days from the date this notice appears in the Federal Register.

ADDRESSES: You may review copies of the final Order, the Petition, and other supporting information at the EPA Region 8 Office, 1595 Wynkoop Street, Denver, Colorado, 80202-1129. EPA requests that if at all possible, you contact the individual listed in the FOR FURTHER INFORMATION CONTACT section to view the copies of the final Order, the Petition, and other supporting information. You may view the hard copies Monday through Friday, 8 a.m. to 4 p.m., excluding Federal holidays. If you wish to examine these documents, you should make an appointment at least 24 hours in advance. Additionally, the final Order for CLF&P Wygen II is available electronically at: http://www.epa.gov/region07/air/title5/petitiondb/petitions/wygen2_response2011.pdf.

FOR FURTHER INFORMATION CONTACT: Donald Law, Air Program (8P-AR), EPA Region 8, 1595 Wynkoop Street, Denver, Colorado, 80202-1129. Phone: (303) 312-7015. Email: law.donald@epa.gov.

SUPPLEMENTARY INFORMATION: The Act affords EPA a 45-day period to review and object to, as appropriate, a title V operating permit proposed by State permitting authorities. Section 505(b)(2) of the Act authorizes any person to petition the EPA Administrator, within 60 days after the expiration of this review period, to object to a title V operating permit if EPA has not done so. Petitions must be based only on objections to the permit that were raised with reasonable specificity during the public comment period provided by the State, unless the petitioner demonstrates that it was impracticable to raise these issues during the comment period or the grounds for the issues arose after this period. EPA received a petition from WildEarth Petitioner dated August 4, 2011, requesting that EPA object to the issuance of the Permit to CLF&P for the Wygen II power plant located in Campbell County, Wyoming. The Petition alleges that WDEQ failed to respond to comments on the draft permit.

On August 23, 2012, the Administrator issued an Order denying the Petition. The Order explains the reasons behind EPA's conclusions.

Dated: September 11, 2012.
James B. Martin,
Regional Administrator, Region 8.

[FR Doc. 2012-23590 Filed 9-24-12; 8:45 am]

BILLING CODE 6560-50-P